FEDERAL MARITIME COMMISSION

Notice of Agreement Filed

The Commission hereby gives notice of filing of the following agreement under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register,and the Commission requests that comments be submitted within 7 days on agreements that request expedited review. Copies of agreements are available through the Commission's website (www.fmc.gov) or by contacting the Office of General Counsel at (202)-523-5740 or GeneralCounsel@fmc.gov.

Agreement No.: 201440-001.

Agreement Name: North Europe-USEC Vessel Sharing Agreement.

Parties: CMA CGM S.A.; COSCO SHIPPING Lines Co., Ltd.; Evergreen Marine (U.K.) Limited; Ocean Network Express Pte. Ltd.; Orient Overseas Container Line Limited; OOCL (Europe) Limited.

Filing Party: Joshua Stein, Cozen O'Connor.

Synopsis: The Amendment would modify the services under the Agreement and the number of vessels operated thereunder. The Parties have requested expedited review.

Proposed Effective Date: 3/23/2026.

Location: https://www2.fmc.gov/FMC.Agreements.Web/Public/AgreementHistory/87586.

Dated: February 13, 2026.
Jennifer Everling,
Assistant Secretary.

[FR Doc. 2026-03225 Filed 2-18-26; 8:45 am]

BILLING CODE 6730-02-P